EXPORT-IMPORT BANK

[Public Notice: 2024-6091]

Agency Information Collection Activities: Submission to the Office of Management and Budget for Review and Approval; Comment Request; EIB 92-37 Beneficiary Certificate and Agreement for Use With Bank Letter of Credit Short Term Export Credit Insurance Policy, or Financial Institution Buyer Credit Insurance Policy

AGENCY: Export-Import Bank of the United States.

ACTION: Notice of information collection; request for comment.

SUMMARY: The Export-Import Bank of the United States (EXIM), as part of its continuing effort to reduce paperwork and respondent burden, invites the general public and other Federal Agencies to comment on the proposed information collection, as required by the Paperwork Reduction Act of 1995.

DATES: Comments must be received on or before November 8, 2024, to be assured of consideration.

ADDRESSES: Comments may be submitted electronically on www.regulations.gov (EIB 92-37) or by email edward.coppola@exim.gov, or by mail to Edward Coppola, Export-Import Bank of the United States, 811 Vermont Ave. NW, Washington, DC 20571.

FOR FURTHER INFORMATION CONTACT: To request additional information, please contact Edward Coppola; edward.coppola@exim.gov; 202 565-3717.

SUPPLEMENTARY INFORMATION: The application tool can be reviewed at: https://img.exim.gov/s3fs-public/pub/pending/eib92-37.pdf.

Title and Form Number: EIB 92-37 Beneficiary Certificate and Agreement for use with Bank Letter of Credit Short Term Export Credit Insurance Policy, or Financial Institution Buyer Credit Insurance Policy.

OMB Number: 3048-0022.

Type of Review: Regular.

Need and Use: This form is used when the beneficiary of the letter of credit, the recipient of a funding under a direct buyer credit loan, or the recipient of payment under a reimbursement loan or a payment under a supplier credit is not the exporter. If the need to use this form arises, the insured holds it in the event of a claim, at which time it would submit it to Export-Import Bank along with all other claim documentation. The form provides Export-Import Bank staff with the information necessary to determine the eligibility of the claimed export transaction for coverage.

Affected Public: This form affects entities involved in the export of U.S. goods and services.

Annual Number of Respondents: 15.

Estimated Time per Respondent: 15 minutes.

Annual Burden Hours: 3.75 hours.

Frequency of Reporting of Use: As needed.

Andrew Smith,
Records Officer.

[FR Doc. 2024-20182 Filed 9-6-24; 8:45 am]

BILLING CODE 6690-01-P